DEPARTMENT OF COMMERCE

Foreign-Trade Zones Board

[B-55-2013]

Notification of Proposed Production Activity; Roper Corporation; Subzone 26G (Kitchen Ranges); Lafayette, Georgia

Roper Corporation (Roper), operator of Subzone 26G, submitted a notification of proposed production activity to the Foreign-Trade Zones (FTZ) Board for its facility in Lafayette, Georgia. The notification conforming to the requirements of the regulations of the FTZ Board (15 CFR 400.22) was received on May 21, 2013.

The subzone currently has authority to produce various types of kitchen ranges using certain imported components. The current request would add imported components to the scope of authority. Pursuant to 15 CFR 400.14(b), additional FTZ authority would be limited to the specific foreign-status materials and components and specific finished products described in the submitted notification (as described below) and subsequently authorized by the FTZ Board.

Production under FTZ procedures could exempt Roper from customs duty payments on the foreign status components used in export production. On its domestic sales, Roper would be able to choose the duty rates during customs entry procedures that apply to gas and electric kitchen ranges (duty rate ranges from duty-free to 5.7%) for the foreign status inputs noted below and in the existing scope of authority. Customs duties also could possibly be deferred or reduced on foreign status production equipment.

The components and materials sourced from abroad include: bezels, glass oven doors, glass cooktops, screws, clip rings, springs, brass orifice spuds, base burner assemblies, head burners, burner injet assemblies, vent caps, blowers, valves, gas valves, motors, fans, control boards, light indicator assemblies, timers, light indicators, capacitors, thermistors, sensors, lamps, encoder assemblies, lenses, thermostats, and lamp assemblies (duty rate ranges from duty-free to 8.6%).

Public comment is invited from interested parties. Submissions shall be addressed to the Board's Executive Secretary at the address below. The closing period for their receipt is July 15, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: May 30, 2013.
Andrew McGilvray,
Executive Secretary.

[FR Doc. 2013-13320 Filed 6-4-13; 8:45 am]

BILLING CODE 3510-DS-P